DEPARTMENT OF DEFENSE

Department of the Air Force L5 Civil Signal Interface Control Document (ICD) Revision 2

AGENCY: Department of the Air Force, DoD.

ACTION: Request for public comment of L5 Civil Signal Interface Control Document (ICD) Revision 2.

SUMMARY: This notice informs the public that the Global Positioning System (GPS) Joint Program Office (JPO) has released the current ICD-GPS-705 dated 2 December 2002, Navstar GPS Space Segment/User Segment L5 Interfaces, for public review and comment. This ICD describes the interface characteristics of L5, a signal to be incorporated into the GPS system for the benefit of the civilian community. The ICD can be reviewed at the following Web site: http://gps.losangeles.af.mil. Click on “Public Interface Control Working Group (ICWG).” Hyperlinks to the ICD and review instructions are provided. The reviewer should save the ICD to a local memory location prior to opening and performing the review. All comments and their resolutions will be posted to the web site.

ADDRESSES: Submit comments to SMC/CZERC, 2420 Vela Way, Suite 1467, El Segundo, CA 90245-4659. A comment matrix is provided for your convenience at the web site and is the preferred method of comment submittal. Comments may be submitted to the following Internet address: smc.czerc@losangeles.af.mil. Comments may also be sent by fax to 1-310-363-6387.

DATES: The suspense date for comment submittal is January 17, 2003.

FOR FURTHER INFORMATION CONTACT: CZERC at 1-310-363-6329, GPS JPO System Engineering Division, or write to the address above.

SUPPLEMENTARY INFORMATION: The civilian and military communities use the Global Positioning System which employs a constellation of 24 satellites to provide continuously transmitted signals to enable appropriately configured GPS user equipment to produce accurate position, navigation, and time information.

Pamela D. Fitzgerald,
Air Force Federal Register Liaison Officer.

[FR Doc. 02-32335 Filed 12-23-02; 8:45 am]

BILLING CODE 5001-05-P